DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 16, 2007.

Interested persons are invited to submit written comments regarding the subject matter of the investigations to the Director, Division of Trade Adjustment Assistance, at the address shown below, not later than November 16, 2007.

The petitions filed in this case are available for inspection at the Office of the Director, Division of Trade Adjustment Assistance, Employment and Training Administration, U.S. Department of Labor, Room C-5311, 200 Constitution Avenue, NW., Washington, DC 20210.

Signed at Washington, DC, this 31st day of October 2007.
Ralph DiBattista,
Director, Division of Trade Adjustment Assistance.

Appendix—TAA Petitions Instituted Between 10/22/07 and 10/26/07
TA-W | Subject firm (petitioners) | Location | Date of institution | Date of petition
62332 | Hartmann (Comp) | Lebanon, TN | 10/22/07 | 10/19/07
62333 | Liberty Fibers Corporation (Comp) | Lowland, TN | 10/22/07 | 10/22/07
62334 | Mammoth, Inc. (Wkrs) | Chaska, MN | 10/22/07 | 10/15/07
62335 | Krizman International (Comp) | Mishawaka, IN | 10/22/07 | 10/18/07
62336 | Fabtek Corporation/Div. of Blount International Inc (State) | Menominee, MI | 10/22/07 | 10/08/07
62337 | Robert Bosch Corporation (State) | Saint Joseph, MI | 10/22/07 | 10/19/07
62338 | Wire Rope Corporation of America (WRC) (Wkrs) | St. Joseph, MO | 10/22/07 | 10/17/07
62339 | Teleplan Wireless (State) | Chanhassen, MN | 10/23/07 | 10/22/07
62340 | Commonwealth Land Title Co. (Wkrs) | Martinez, CA | 10/23/07 | 10/16/07
62341 | Nortel, Inc. (Wkrs) | Research Triangle Park, NC | 10/23/07 | 10/17/07
62342 | Georgia Pacific West, Inc. (UBCJA) | Bellingham, WA | 10/23/07 | 10/19/07
62343 | Parametric Technology Corporation (State) | Arden Hills, MN | 10/23/07 | 10/22/07
62344 | Black and Decker Industrial Products Group (Comp) | Jackson, TN | 10/23/07 | 10/22/07
62345 | Marathon USA, LLC (Comp) | Medford, OR | 10/23/07 | 10/17/07
62346 | McConway & Torley Corporation (Union) | Kutztown, PA | 10/24/07 | 10/27/07
62347 | Alliance Title (Wkrs) | Campbell, CA | 10/24/07 | 10/12/07
62348 | Madison (Wkrs) | Sumter, SC | 10/24/07 | 10/16/07
62349 | Texas Instruments Incorporated (Comp) | Dallas, TX | 10/24/07 | 10/22/07
62350 | Hewlett-Packard, Inkjet Supplies Business (Comp) | Boise, ID | 10/24/07 | 10/23/07
62351 | Black and Decker Inc. (Comp) | Decatur, AR | 10/24/07 | 10/23/07
62352 | Weyerhaeuser Company (State) | Ironton, MN | 10/24/07 | 10/23/07
62353 | Hewlett-Packard (State) | Fort Collins, CO | 10/24/07 | 10/23/07
62354 | GDX North America (USW) | Wabash, IN | 10/24/07 | 10/22/07
62355 | Hawley Products Inc. (Comp) | Paducah, KY | 10/24/07 | 10/23/07
62356 | Wachovia (Wkrs) | Glen Allen, VA | 10/25/07 | 10/24/07
62357 | WestPoint Home—Stores Division (Comp) | Valley, AL | 10/25/07 | 10/22/07
62358 | Pelican Company LLC (State) | Winnsboro, LA | 10/25/07 | 10/24/07
62359 | Custom Inlay, Inc. (Comp) | Caneyville, KY | 10/25/07 | 10/16/07
62360 | GE Aviation (Comp) | Corona, CA | 10/26/07 | 10/24/07
62361 | Millward Brown/Kantar Operations (Wkrs) | Rock Island, IL | 10/26/07 | 10/25/07
62362 | Meadwestvaco Custom Papers, LLC (Comp) | South Lee, MA | 10/26/07 | 10/24/07
62363 | Tweel Home Furnishings (State) | Rock Hill, SC | 10/26/07 | 10/25/07
62364 | Boston Communications Group (Wkrs) | Bedford, MA | 10/26/07 | 10/25/07
62365 | WestPoint Home (Comp) | Biddeford, ME | 10/26/07 | 10/24/07
62366 | Curves (Comp) | Berlin, NH | 10/26/07 | 10/26/07
62367 | Rochwell Automation (Comp) | Dublin, GA | 10/26/07 | 10/25/07
62368 | G-Tech Professional Staffing (State) | Wixom, MI | 10/26/07 | 10/09/07

[FR Doc. E7-21742 Filed 11-5-07; 8:45 am]

BILLING CODE 4510-FN-P